DEPARTMENT OF AGRICULTURE

Animal and Plant Health Inspection Service

Submission for OMB Review; Comment Request

June 13, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by July 18, 2016 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Sand Pears from China.

OMB Control Number: 0579-0390.

Summary of Collection: Under the Plant Protection Act (PPA) (7 U.S.C 7701—et seq), the Secretary of Agriculture is authorized to carry out operations or measures to detect, eradicate, suppress, control, prevent, or retard the spread of plant pests new to the United States or not known to be widely distributed throughout the United States. The regulations in “Subpart—Fruits and Vegetables” (Title 7, CFR 319.56) prohibit or restrict the importation of fruits and vegetables into the U.S. from certain parts of the world. The Animal and Plant Health Inspection Service (APHIS) is responsible for carrying out these duties. APHIS has amended the fruits and vegetables regulations to allow the importation of Chinese sand pears from China into the United States.

Need and Use of the Information: APHIS uses the following information collection activities to allow for the importation of sand pears from China into the United States while continuing to provide protection against the introduction of quarantine pests: Operational Workplan; Production Site Registration; Packinghouse Registration; Test and Certification of Propagative Material; Inspection of Registered Production Site; Investigation for Recertification of Production Site; Tracking System for Packinghouses; Inspection of Packinghouse; Handling Procedure; Labeling of Cartons; Phytosanitary Certificate with Additional Declaration; Trapping System; Recordkeeping for Trap Location; Packinghouse Notification of Pest Detection; Mitigation Measures for Production Site Detection; Mitigation Measures for Packinghouse Detection; Certification of Cold Treatment Facilities; Cold Treatment Facility Numbered Seal; Cold Treatment Review of Treatment Records; Cold Treatment Facility Audits; and Cold Treatment Monitoring. Failing to collect this information would cripple APHIS ability to ensure that sand pears from China are not carrying plant pests and would cause millions of dollars in damage to U.S. agriculture.

Description of Respondents: Business or other for-profit; Federal Government.

Number of Respondents: 29.

Frequency of Responses: Recordkeeping; Reporting: On occasion.

Total Burden Hours: 420.

Ruth Brown,
Departmental Information Collection Clearance Officer.

[FR Doc. 2016-14226 Filed 6-15-16; 8:45 am]

BILLING CODE 3410-34-P